NUCLEAR REGULATORY COMMISSION

[Docket No. 50-326; NRC-2010-0217]

Board of Regents of the University of California, Irvine Nuclear Reactor Facility

AGENCY: Nuclear Regulatory Commission.

ACTION: License renewal; issuance.

SUMMARY: The U.S. Nuclear Regulatory Commission (NRC) issued a renewal of Facility Operating License No. R-116, held by the Board of Regents of the University of California (the licensee) for the continued operation of its University of California, Irvine Nuclear Reactor Facility (UCINRF) for an additional 20 years.

DATES: The renewed Facility Operating License No. R-116 is effective on July 7, 2016.

ADDRESSES: Please refer to Docket ID NRC-2010-0217 when contacting the NRC about the availability of information regarding this document. You may obtain publicly-available information related to this document using any of the following methods:

• Federal Rulemaking Web site: Go to http://www.regulations.gov and search for Docket ID NRC-2010-0217. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Michael F. Balazik, Office of Nuclear Reactor Regulation, U.S. Nuclear Regulatory Commission, Washington, DC 20555-0001; telephone: 301-415-2856; email: Michael.Balazik@nrc.gov.

SUPPLEMENTARY INFORMATION:

I. Discussion

The NRC has issued renewed Facility Operating License No. R-116, held by the licensee, which authorizes continued operation of the UCINRF, located in Irvine, California. The UCINRF is a heterogeneous, in-ground pool type, natural convection, light-water cooled and shielded TRIGA (Training, Research, Isotope Production, General Atomics) Mark I reactor. The UCINRF is licensed to operate at a steady-state power level of 250 kilowatts thermal power and to pulse the reactor with a maximum reactivity insertion of $3.00. The renewed Facility Operating License No. R-116 will expire 20 years from its date of issuance.

The renewed facility operating license complies with the standards and requirements of the Atomic Energy Act of 1954, as amended (the Act), and the Commission's rules and regulations. The Commission has made appropriate findings as required by the Act and the Commission's regulations in Chapter I of Title 10 of the Code of Federal Regulations, and sets forth those findings in the renewed facility operating license. The NRC afforded an opportunity for hearing in the Notice of Opportunity for Hearing published in the Federal Register on June 28, 2010 (75 FR 36705). The NRC received no request for a hearing or petition for leave to intervene following the notice.

The NRC staff prepared a safety evaluation report for the renewal of Facility Operating License No. R-116 and, based on that evaluation, concluded that the licensee can continue to operate the facility without endangering the health and safety of the public. The NRC staff also prepared an Environmental Assessment and Finding of No Significant Impact for the renewal of the facility operating license, noticed in the Federal Register on February 13, 2012 (77 FR 7610), as supplemented on May 8, 2013 (78 FR 26812), and concluded that renewal of the facility operating license will not have a significant impact on the quality of the human environment.

II. Availability of Documents

The documents identified in the following table are available to interested persons as indicated.

Document | Adams accession No.
University of California, Irvine Nuclear Reactor Facility Formal Application for Renewal of Reactor Operating License R-116 (Docket 50-326), dated October 18, 1999 | ML083110112
Environmental Report Modeled on the Report for NC State and Revised Operator Requalification Plan, dated April 24, 2000 | ML003708602
University of California, Irvine—Letter Forwarding Emergency Plan and Security Plan, dated June 2, 2000 | ML003727359
University of California, Irvine—Reactor Response to NRC Request for Additional Information Dated December 3, 2009, License Renewal Request, dated January 27, 2010 | ML100290365
University of Irvine License Renewal E-mail from George Miller Regarding Revised Maximum Dose from a MHA, dated March 23, 2010 | ML100840084
University of California, Irvine, Response to the Request for Additional Information dated. December 3, 2009 in Regard to License Renewal Request, dated May 17, 2010 | ML101400027
University of California, Irvine—Response to Request for Additional Information dated May 25, 2010 Regarding License Renewal Request, dated July 14, 2010 | ML101970039
University of California Irvine Nuclear Reactor Facility, Financial Assurance, dated August 25, 2010 | ML102520227
University of California, Irvine, Response Regarding Revision Based on Teleconference Regarding License Renewal, dated October 20, 2010 | ML102980015
University of California, Irvine, Response to Request for Additional Information on Revised Operator Requalification Program, dated October 29, 2010 | ML103070123
University of California, Irvine (UCI)—Response to NRC Request for Additional Information (RAI) dated May 26, 2010 and Transmittal Letter, dated June 7, 2011 | ML111950379
University of California, Irvine (UCI)—Thermal-Hydraulic Analysis for UCI TRIGA Reactor, dated July 7, 2011 | ML111950380
University of California, Irvine (UCI)—Nuclear Analysis for UCI TRIGA Reactor, Report 911196, Rev. 0, dated June 7, 2011 | ML111950452
Response to Re-license, Request for Additional Information 04/05/2011, dated June 24, 2011 | ML11188A083
University of California—Irvine, Response to Request for Additional Information Dated April 5, 2011 (TAC ME1579), Additional Response Material—Extension Granted to August 1, 2011, dated August 1, 2011 | ML11255A073
University of California, Irvine—Response to Request for Additional Information, Revised Maximum Hypothetical Accident Analysis, ALARA Program Policy Statement and Proposed Technical Specifications, dated October 3, 2011 | ML120110012
University of California, Irvine—Licensee Response to NRC Request for Additional Information Re: License Renewal Maximum Hypothetical Accident, dated December 2, 2011 | ML113530010
University of California, Irvine, Docket 50-326 Re-license, dated December 2, 2011 | ML11348A104
Transmittal of University of California, Irvine, Technical Specifications for the TRIGA Mark I Nuclear Reactor, dated January 12, 2012 | ML12031A170
Technical Specifications for the University of California Irvine TRIGA Mark I Nuclear Reactor, dated March 1, 2012 | ML12087A215
University of California—Irvine, License Renewal E-mail Request for Minor Adjustments to Proposed Technical Specifications—March 2012, dated September 11, 2012 | ML12256A897
University of California, Irvine, Response to NRC's RAI Regarding the Reactor Emergency Plan, January 30, 2014, dated February 26, 2014 | ML14073A073
Letter, University of California—Irvine, Submittal of the Security Plan, dated March 5, 2014 | ML14065A445
Letter, University of California—Irvine, Submittal of the Emergency Plan, dated March 7, 2014 | ML14070A184
University of California, Irvine, Docket 50-326, License R-116, Security Plan Change under 10 CFR 50.54(p), dated July 11, 2014 | ML14274A110
Letter Providing Response Regarding Financials from Fiscal Request for Additional Information issued May 8, 2014, dated October 8, 2014 | ML14302A068
University of California, Irvine—Financial Assurance Statement of Intent, dated October 8, 2014 | ML14302A078
University of California, Irvine—Response to Technical Request for Additional Information, dated December 22, 2015 | ML16027A126
University of California, Irvine, Technical Specifications for the TRIGA Mark I Nuclear Reactor (issued April 22, 2016), dated April 22, 2016 | ML16125A487
University of California, Irvine—Request that License Limits for TRIGA Mark I Nuclear Reactor Facility be Established, dated April 29, 2016 | ML16125A149
University of California, Irvine—Request Changes to Technical Specification 5.4, Fuel Storage, dated May 13, 2016 | ML16141A115

Dated at Rockville, Maryland, this 8th day of July 2016.
For the Nuclear Regulatory Commission.
Alexander Adams Jr.,
Chief, Research and Test Reactors Licensing Branch, Division of Policy and Rulemaking, Office of Nuclear Reactor Regulation.

[FR Doc. 2016-16933 Filed 7-15-16; 8:45 am]

BILLING CODE 7590-01-P